DEPARTMENT OF LABOR

Veterans Employment and Training Service

Agency Information Collection Activities: New Collection; Comment Request

ACTION: 60-Day Notice of Information Collection Under Review: Homeless Veterans Reintegration Program Data Collection and Effectiveness Study.

SUMMARY: The Department of Labor is seeking Office of Management and Budget (OMB) approval for the information collection described below. The purpose of this notice is to allow 60 days for public comment in the Federal Register preceding submission to OMB. We are conducting this process in accordance with the Paperwork Reduction Act of 1995.

Title of Information Collection: Homeless Veterans Reintegration Program Data Collection and Effectiveness Study.

OMB Control Number:

Type of Request: New collection.

Originating Office: Department of Labor—Veterans Employment and Training Service.

Form Number: None.

Respondents: The Department of Labor's Homeless Veterans Reintegration Program (HVRP) grant recipients. This includes not-for-profit institutions.

Estimated Number of Respondents: 73.

Estimated Number of Responses: 73.

Average Hours per Response: 4.9 hours per grantee.

Total Estimated Burden: 358 hours.

Frequency: Once per respondent.

Obligation To Respond: Voluntary.

DATES: The Department will accept comments from the public up to 60 days from July 23, 2008.

Comments: Submit comments to Steve Richardson by e-mail (richardson.steven@dol.gov), fax (202-693-7954) or mail (U.S. Department of Labor, 200 Constitution Ave., NW., Room S-3317, Washington, DC 20210). Please use just one method and include the information collection title.

FOR FURTHER INFORMATION CONTACT: Direct requests for additional information regarding the collection listed in this notice, including requests for copies of the proposed information collection and supporting documents, to Miguel Hernandez via e-mail (hernandez.miguel@dol.gov), phone (202-693-4728), or mail (USDOL-VETS, Francis Perkins Bldg., 200 Constitution Ave., NW., Room S-1316, Washington, DC 20210).

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of Proposed Collection: The proposed study will develop and further the Department of Labor's understanding of the traits and characteristics of programs which provide employment and training services for homeless veterans. Comparing results of different grantee models (both urban and non-urban) will assist the Department with performance outcome comparisons across grantees and identification of best practices. This questionnaire asks for opinions, reactions, and thoughts regarding the HVRP program.

Methodology: The collection of information will utilize a web-based survey design. Alternatively, participants will be able to complete the survey using a paper-based version if they prefer such a format. A paper copy of the survey will be mailed to participants who request a paper based format and will include a postage paid return envelope for submission.

Signed in Washington, DC, this 8th day of August 2008.
Charles S. Ciccolella,
Assistant Secretary, Veterans Employment and Training Service.

[FR Doc. E8-18858 Filed 8-14-08; 8:45 am]

BILLING CODE 4510-79-P